OFFICE OF PERSONNEL MANAGEMENT

Excepted Service

AGENCY: Office of Personnel Management (OPM).

ACTION: Notice.

SUMMARY: This notice identifies Schedule A, B, and C appointing authorities applicable to a single agency that was established, modified. or revoked from August 1, 2023, to August 31, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified. or revoked from August 1, 2023, to August 31, 2023.

Schedule A

11. Department of Homeland Security (Schedule A 213.3111)

(g) U.S. Immigration and Customs Enforcement—

(2) Homeland Security Investigations (HSI) Shadow Wolves Program — Not to exceed125 Special Agent (GS-1811) positions in areas near the international borders between the United States and Canada or the United States and Mexico, when filled by the appointment of individuals with one-fourth or more Indian blood, with the approval and consent of the appropriate Indian tribe. Appointments may be made at the GS-05 through GS-14 grade levels.

06. Department of Defense (Schedule A, 213.3106)

(m) Defense Security Cooperation Agency

(2) Ted Stevens Center for Arctic Security Studies—Not to exceed 25 positions including Director, Deputy Director, Associate Director, Deputy Dean, Deputy Associate Director, Research Analyst, Policy Analyst, Professor, Associate Professor, and Assistant Professor. Initial appointments may not exceed 3 years, and may be extended thereafter in 1-, 2-, or 3-year increments, indefinitely based on the Center's mission requirements.

Schedule B

No Schedule B Authorities to report during August 2023.

Schedule C

The following Schedule C appointing authorities were approved during August 2023.

Agency name | Organization name | Position title | Authorization No. | Effective date
DEPARTMENT OF AGRICULTURE | Farm Service Agency | Special Advisor Chief of Staff | DA230153 DA230151 | 08/25/2023 08/31/2023
| National Institute of Food and Agriculture | Special Advisor | DA230132 | 08/08/2023
| Office of Communications | Director of Advance | DA230146 | 08/17/2023
| Office of the Assistant Secretary for Civil Rights | Chief of Staff | DA230152 | 08/25/2023
| Office of the Assistant Secretary for Congressional Relations | Legislative Advisor | DA230133 | 08/08/2023
|  | Senior Legislative Advisor | DA230125 | 08/17/2023
| Office of the Secretary | Special Assistant | DA230127 | 08/08/2023
| Rural Business Service | Special Assistant | DA230131 | 08/08/2023
DEPARTMENT OF COMMERCE | National Institute of Standards and Technology | Intergovernmental Affairs Specialist | DC230175 | 08/10/2023
| Office of Public Affairs | Deputy Press Secretary | DC230173 | 08/10/2023
| Office of the Deputy Secretary | Special Assistant | DC230178 | 08/24/2023
| Office of the General Counsel | Counsel | DC230174 | 08/10/2023
| Office of White House Liaison | Special Assistant | DC230179 | 08/24/2023
UNITED STATES COMMISSION ON CIVIL RIGHTS | Office of Commissioners | Special Assistant to the Commissioner | CC230004 | 08/08/2023
FEDERAL PERMITTING IMPROVEMENT STEERING COUNCIL | Federal Permitting Improvement Steering Council | Chief of Staff | FF230003 | 08/03/2023
COMMODITY FUTURES TRADING COMMISSION | Office of the Chairperson | Confidential Assistant | CT230003 | 08/09/2023
DEPARTMENT OF DEFENSE | Washington Headquarters Services | Defense Fellow (2) | DD230191 DD230193 | 08/02/2023 08/09/2023
| Office of the Assistant Secretary of Defense (Health Affairs) | Special Assistant | DD230194 | 08/10/2023
| Office of the Under Secretary of Defense (Personnel and Readiness) | Special Assistant | DD230195 | 08/10/2023
DEPARTMENT OF EDUCATION | Office of the Deputy Secretary | Confidential Assistant | DB230103 | 08/08/2023
DEPARTMENT OF ENERGY | Office of the Assistant Secretary for Congressional and Intergovernmental Affairs Office of General Counsel | Deputy Assistant Secretary for Senate Affairs Regional Intergovernmental and External Affairs Specialist Attorney-Advisor (General) | DE230148 DE230154 DE230146 | 08/11/2023 08/30/2023 08/14/2023
ENVIRONMENTAL PROTECTION AGENCY | Office of Public Affairs | Senior Advisor for Digital Strategy and Content Development | EP230117 | 08/09/2023
| Office of Public Engagement and Environmental Education | Deputy Associate Administrator for Public Engagement and Environmental Education | EP230120 | 08/23/2023
GENERAL SERVICES ADMINISTRATION | Office of the Administrator | White House Liaison | GS230037 | 08/14/2023
|  | Special Assistant | GS230038 | 08/17/2023
DEPARTMENT OF HEALTH AND HUMAN SERVICES | Office of Administration for Children and Families | Senior Advisor | DH230233 | 08/10/2023
| Office for Civil Rights | Special Assistant | DH230253 | 08/17/2023
| Office of Intergovernmental and External Affairs | Special Assistant Senior Advisor (2) | DH230232 DH230247 DH230241 | 08/02/2023 08/30/2023 08/31/2023
| Office of the Secretary | Advance Representative | DH230264 | 08/24/2023
|  | Deputy Director of Advance | DH230238 | 08/08/2023
|  | Policy Advisor | DH230243 | 08/14/2023
|  | Special Assistant | DH230229 | 08/08/2023
DEPARTMENT OF HOMELAND SECURITY | Office of the Secretary | Senior Advance Officer Special Assistant to the Secretary | DM230286 DM230305 | 08/09/2023 08/09/2023
DEPARTMENT OF HOUSING AND URBAN DEVELOPMENT | Office of Fair Housing and Equal Opportunity | Chief of Staff | DU230072 | 08/23/2023
DEPARTMENT OF THE INTERIOR | Secretary's Immediate Office | Senior Advisor to the Deputy Secretary | DI230084 | 08/31/2023
|  | Press Secretary | DI230085 | 08/31/2023
DEPARTMENT OF JUSTICE | Civil Rights Division | Counsel Senior Counsel (2) | DJ230133 DJ230132 DJ230105 | 08/08/2023 08/08/2023 08/03/2023
| Department of Justice | Senior Counsel | DJ230136 | 08/08/2023
| Executive Office for United States Attorneys | Confidential Assistant | DJ230103 | 08/31/2023
| Office of Public Affairs | Press Assistant Digital Content Assistant | DJ230122 DJ230128 | 08/03/2023 08/28/2023
NATIONAL AERONAUTICS AND SPACE ADMINISTRATION | Office of Legislative and Intergovernmental Affairs | Senior Legislative Advisor | NN230048 | 08/03/2023
OFFICE OF MANAGEMENT AND BUDGET | Office of Communications Staff Offices | Deputy Associate Director for Communications Confidential Assistant | BO230040 BO230042 | 08/17/2023 08/23/2023
OFFICE OF PERSONNEL MANAGEMENT | Office of Congressional, Legislative, and Intergovernmental Affairs | Senior Advisor | PM230051 | 08/18/2023
OFFICE OF SCIENCE AND TECHNOLOGY POLICY | Office of Science and Technology Policy | Special Advisor for Director's Initiatives | TS230007 | 08/09/2023
OFFICE OF THE UNITED STATES TRADE REPRESENTATIVE | Office of Congressional Affairs | Congressional Affairs Specialist | TN230017 | 08/02/2023
SMALL BUSINESS ADMINISTRATION | Office of Entrepreneurial Development | Director of Rural Affairs | SB230033 | 08/04/2023
| Office of the Administrator | Senior Advisor | SB230035 | 08/04/2023
DEPARTMENT OF STATE | Bureau of Arms Control, Verification and Compliance | Staff Assistant | DS230164 | 08/09/2023
| Bureau of East Asian and Pacific Affairs | Advisor for Strategic Communications | DS230167 | 08/09/2023
| Bureau of Legislative Affairs | Senior Advisor | DS230171 | 08/30/2023
| Bureau of Near Eastern Affairs | Senior Policy Advisor | DS230158 | 08/02/2023
| Office of the Chief of Protocol | Protocol Officer (Ceremonials) | DS230165 | 08/15/2023
|  | Protocol Officer | DS230172 | 08/30/2023
| Office of the Deputy Secretary for Management and Resources | Confidential Assistant | DS230168 | 08/21/2023
| Office of the Secretary | Special Advisor Senior Advisor | DS230160 DS230163 | 08/02/2023 08/10/2023
| Office of the Under Secretary for Management | Senior Advisor | DS230169 | 08/17/2023
| Office of the Under Secretary for Public Diplomacy and Public Affairs | Staff Assistant | DS230166 | 08/09/2023
DEPARTMENT OF TRANSPORTATION | Office of the Assistant Secretary for Transportation Policy | Advisor for Policy and Program Implementation | DT230125 | 08/11/2023
| Office of Public Affairs and Public Engagement | Associate Director for Public Engagement | DT230128 | 08/30/2023
|  | Deputy Director of Public Engagement and Outreach | DT230124 | 08/11/2023
|  | Program Manager for Public Engagement | DT230120 | 08/14/2023
| Office of the Under Secretary of Transportation for Policy | Advisor for Multimodal Freight | DT230130 | 08/25/2023
DEPARTMENT OF THE TREASURY | Department of the Treasury | Legislative Advisor | DY230138 | 08/17/2023
|  | Senior Advisor for Capital Markets | DY230141 | 08/07/2023
|  | Special Assistant | DY230140 | 08/07/2023
|  | Special Assistant for Racial Equity | DY230139 | 08/21/2023

The following Schedule C appointing authorities were revoked during August 2023.

Agency name | Organization name | Position title | Request No. | Vacate date
CONSUMER FINANCIAL PROTECTION BUREAU | Consumer Financial Protection Bureau | Executive Secretary and Senior Advisor to the Director | FP210024 | 08/07/2023
DEPARTMENT OF AGRICULTURE | Farm Service Agency | Senior Policy Advisor | DA230039 | 08/26/2023
| Office of the Assistant Secretary for Congressional Relations | Legislative Advisor (2) | DA230047 DA230059 | 08/26/2023 08/26/2023
| Office of the Secretary | Confidential Assistant | DA220058 | 08/26/2023
|  | Deputy Director of Scheduling | DA230068 | 08/20/2023
|  | Special Advisor | DA230086 | 08/12/2023
| Office of Rural Development | Senior Advisor | DA230017 | 08/26/2023
DEPARTMENT OF COMMERCE | Office of International Trade Administration | Special Advisor and Director of Strategy and Operations | DC220131 | 08/26/2023
| National Telecommunications and Information Administration | Press Assistant | DC220166 | 08/26/2023
| Office of Advance, Scheduling and Protocol | Associate Director of Scheduling | DC220170 | 08/26/2023
| Office of the Deputy Secretary | Special Assistant | DC230103 | 08/25/2023
| Office of White House Liaison | Special Assistant | DC220133 | 08/26/2023
DEPARTMENT OF EDUCATION | Office of Postsecondary Education | Confidential Assistant | DB210122 | 08/26/2023
| Office of Special Education and Rehabilitative Services | Chief of Staff | DB220030 | 08/11/2023
| Office of the Deputy Secretary | Special Assistant | DB220075 | 08/13/2023
| Office of the General Counsel | Confidential Assistant | DB220047 | 08/26/2023
DEPARTMENT OF ENERGY | Office of the Assistant Secretary for Congressional and Intergovernmental Affairs | Regional Intergovernmental and External Affairs Specialist (2) | DE210184 DE220001 | 08/12/2023 08/12/2023
| Grid Deployment Office | Special Advisor | DE230015 | 08/18/2023
| Office of General Counsel | Attorney-Advisor (General) | DE230005 | 08/05/2023
| Office of Management | Special Assistant for Advance | DE220085 | 08/12/2023
| Office of the Secretary | Special Assistant to the White House Liaison | DE230094 | 08/12/2023
DEPARTMENT OF HEALTH AND HUMAN SERVICES | Office of Health Resources and Services Administration | Director of Strategic Communications | DH230021 | 08/04/2023
| Office of Intergovernmental and External Affairs | Regional Director, Dallas, TX, Region VI | DH220004 | 08/04/2023
| Office of the Secretary | Special Assistant Advance Representative | DH230062 DH220059 | 08/12/2023 08/12/2023
DEPARTMENT OF HOMELAND SECURITY | Office of Legislative Affairs | Associate Director | DM220098 | 08/18/2023
| Office of Public Affairs | Press Assistant | DM220094 | 08/13/2023
| Office of the Secretary | Writer-Editor | DM220213 | 08/13/2023
DEPARTMENT OF HOUSING AND URBAN DEVELOPMENT | Office of Field Policy and Management | Special Policy Advisor | DU210037 | 08/26/2023
| Office of the Administration | Special Assistant | DU220045 | 08/26/2023
| Office of the Deputy Secretary | Senior Advisor | DU210097 | 08/12/2023
DEPARTMENT OF JUSTICE | Office of Legislative Affairs | Advisor | DJ230117 | 08/25/2023
| Office of the Associate Attorney General | Confidential Assistant | DJ230065 | 08/14/2023
DEPARTMENT OF LABOR | Office of the Deputy Secretary | Senior Advisor | DL220005 | 08/12/2023
DEPARTMENT OF THE TREASURY | Office of the Assistant Secretary (Legislative Affairs) | Special Assistant Special Advisor | DY220127 DY230044 | 08/26/2023 08/26/2023
| Secretary of the Treasury | Special Assistant Special Advisor | DY210097 DY220101 | 08/07/2023 08/07/2023
| Office of the Under Secretary for Terrorism and Financial Intelligence | Senior Advisor | DY220004 | 08/12/2023
DEPARTMENT OF TRANSPORTATION | Office of the Assistant Secretary for Transportation Policy | Labor Policy Advisor | DT220010 | 08/20/2023
|  | Deputy Director of Public Engagement | DT220014 | 08/12/2023
|  | Special Assistant for Public Engagement | DT220083 | 08/26/2023
| Federal Railroad Administration | Director of Communications | DT210106 | 08/12/2023
| Federal Transit Administration | Senior Advisor | DT220082 | 08/26/2023
DEPARTMENT OF VETERANS AFFAIRS | Veterans Experience Office | Advisor to Chief Veterans Experience Officer | DV220042 | 08/14/2023
ENVIRONMENTAL PROTECTION AGENCY | Environmental Protection Agency | Public Affairs Specialist | EP220074 | 08/26/2023
| Office of Public Engagement and Environmental Education | Associate Deputy Director | EP230103 | 08/26/2023
| Office of the Administrator | Advance Specialist (2) | EP220068 EP230012 | 08/26/2023 08/26/2023
EXPORT-IMPORT BANK | Office of Communications | Senior Vice President for Communications | EB230004 | 08/26/2023
GENERAL SERVICES ADMINISTRATION | Office of the Administrator | Special Assistant (2) | GS230013 GS230007 | 08/12/2023 08/26/2023
NATIONAL AERONAUTICS AND SPACE ADMINISTRATION | Office of the Administrator | Climate Counselor | NN230002 | 08/12/2023
OFFICE OF PERSONNEL MANAGEMENT | Office of the Director | Special Assistant to the Director | PM220033 | 08/19/2023
OFFICE OF THE SECRETARY OF DEFENSE | Office of the Assistant Secretary of Defense (Legislative Affairs) | Special Assistant (Intergovernmental Affairs) | DD220149 | 08/12/2023
| Office of the Assistant Secretary of Defense (Strategy, Plans, and Capabilities) | Special Assistant | DD220196 | 08/12/2023
| Office of the Assistant to the Secretary of Defense (Public Affairs) | Special Assistant | DD230155 | 08/26/2023
| Washington Headquarters Services | Defense Fellow | DD220134 | 08/31/2023
OFFICE OF THE UNITED STATES TRADE REPRESENTATIVE | Office of Public and Media Affairs | Assistant United States Trade Representative for Public and Media Affairs | TN210013 | 08/23/2023
SECURITIES AND EXCHANGE COMMISSION | Office of the Chairman | Program Specialist | SE220014 | 08/18/2023
SMALL BUSINESS ADMINISTRATION | Office of Field Operations | Regional Administrator, Region I Senior Advisor | SB220013 SB230004 | 08/31/2023 08/12/2023

Authority: 5 U.S.C. 3301 and 3302; E.O. 10577, 3 CFR, 1954-1958 Comp., p. 218.

Office of Personnel Management.
Kayyonne Marston,
Federal Register Liaison.

[FR Doc. 2024-11354 Filed 5-22-24; 8:45 am]

BILLING CODE 6325-39-P